SMALL BUSINESS ADMINISTRATION

[License No. 05/05-0310]

Aldine Capital Fund II, L.P.; Notice Seeking Exemption Under Section 312 of the Small Business Investment Act, Conflicts of Interest

Notice is hereby given that Aldine Capital Fund II, L.P., 30 West Monroe Street, Suite 710, Chicago, IL 60603, a Federal Licensee under the Small Business Investment Act of 1958, as amended (”the Act”), in connection with the financing of a small concern, has sought an exemption under Section 312 of the Act and Section 107.730, Financings which Constitute Conflicts of Interest of the Small Business Administration (“SBA”) Rules and Regulations (13 CFR 107.730). Aldine Capital Fund II, L.P. proposes to provide debt and equity financing to Koontz-Wagner Maintenance Services, LLC., 3801 Voorde Drive, South Bend, IN 46628.

The financing is brought within the purview of § 107.730(a)(l) of the Regulations because Aldine SBIC Fund, L.P. is an Associate of Aldine Capital Fund II, L.P. and owns more than ten percent of Koontz-Wagner Maintenance Services, LLC. Therefore this transaction is considered a financing of an Associate requiring prior SBA exemption.

Notice is hereby given that any interested person may submit written comments on the transaction, within fifteen days of the date of this publication, to the Associate Administrator for Investment, U.S. Small Business Administration, 409 Third Street SW., Washington, DC 20416.

Dated: December 18, 2013.
Javier E. Saade,
Associate Administrator for Office of Investment and Innovation.

[FR Doc. 2013-30607 Filed 12-23-13; 8:45 am]

BILLING CODE 8025-01-P